DEPARTMENT OF COMMERCE

International Trade Administration

[A-560-802]

Certain Preserved Mushrooms From Indonesia: Final Results of Antidumping Duty Administrative Review

AGENCY: Import Administration, International Trade Administration, Department of Commerce.

ACTION: Notice of final results of antidumping duty administrative review.

SUMMARY: On March 8, 2001, the Department of Commerce published the preliminary results of the first administrative review of the antidumping duty order on certain preserved mushrooms from Indonesia (66 FR 13903). The review covers three manufacturers/exporters. The periods of review are August 5, 1998, through January 31, 2000, for PT Indo Evergreen Agro Business Corporation and PT Zeta Agro Corporation, and December 31, 1998 through January 31, 2000, for PT Dieng Djaya and PT Surya Jaya Abadi Perkasa.

Based on our analysis of the comments received, we have made changes in the margin calculations. Therefore, the final results differ from the preliminary results. The final weighted-average dumping margins for the reviewed firms are listed below in the section entitled “Final Results of Review.”

EFFECTIVE DATE: August 13, 2001.

FOR FURTHER INFORMATION CONTACT: Sophie Castro or Rebecca Trainor, Import Administration, International Trade Administration, U.S. Department of Commerce, Washington, DC 20230; telephone: (202) 482-0588 or (202) 482-4007, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2000).

Background

The review covers three manufacturers/exporters, PT Indo Evergreen Agro Business Corporation (Indo Evergreen), PT Zeta Agro Corporation (Zeta), and PT Dieng Djaya (Dieng Djaya) and PT Surya Jaya Abadi Perkasa (Surya Jaya). The periods of review are August 5, 1998, through January 31, 2000, for Indo Evergreen and Zeta and December 31, 1998 through January 31, 2000,¹ for Dieng Djaya and Surya Jaya.

¹ See Notice of Antidumping Duty Order: Certain Preserved Mushroom from Indonesia, 64 FR 8310 (February 19, 1999).

On March 8, 2001, the Department of Commerce (the Department) published the preliminary results of the first administrative review of the antidumping duty order on certain preserved mushrooms from Indonesia (66 FR 13903). We invited parties to comment on the preliminary results of review. We received case briefs from the petitioners and respondents on April 9, 2001. We received rebuttal briefs from the petitioners and the respondents on April 17, 2001. We have conducted this administrative review in accordance with section 751 of the Act.

Scope of Order

The products covered by this order are certain preserved mushrooms, whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this review are “brined” mushrooms, which are presalted and packed in a heavy salt solution to provisionally preserve them for further processing.

Excluded from the scope of this order are the following: (1) All other species of mushroom, including straw mushrooms; (2) all fresh and chilled mushrooms, including “refrigerated” or “quick blanched mushrooms'; (3) dried mushrooms; (4) frozen mushrooms; and (5) “marinated,” “acidified” or “pickled” mushrooms, which are prepared or preserved by means of vinegar or acetic acid, but may contain oil or other additives.

The merchandise subject to this order is classifiable under subheadings 2003.10.0027, 2003.10.0031, 2003.10.0037, 2003.10.0043, 2003.10.0047, 2003.10.0053, and 0711.90.4000 of the Harmonized Tariff Schedule of the United States (HTSUS). Although the HTSUS subheadings are provided for convenience and customs purposes, our written description of the scope of this order is dispositive.

Analysis of Comments Received

All issues raised in the case and rebuttal briefs by parties to this antidumping duty administrative review are addressed in the “Issues and Decision Memorandum” (Decision Memo) from Richard W. Moreland, Deputy Assistant Secretary for Import Administration, to Faryar Shirzad, Assistant Secretary for Import Administration, dated July 6, 2001, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Internet at http://ia.ita.doc.gov. The paper copy and electronic version of the Decision Memo are identical in content.

Changes From the Preliminary Results

Based on our analysis of the comments received, we have made certain changes to the margin calculations. For a discussion of these changes, see the “Margin Calculations” section of the Decision Memo, the public version of which is on file in room B-099 of the Department and available on the Internet at http://ia.ita.doc.gov.

Final Results of Review

We determine that the following weighted-average margin percentages exist:

Manufacturer/exporter | Margin (percent) | Period of review
PT Dieng Djaya and PT Surya Jaya Abadi Perkasa | 0.44 (de minimis) | 12/31/1998-01/31/2001
PT Indo Evergreen Agro Business Corp | 5.16 | 08/05/1998-01/31/2001
PT Zeta Agro Corporation | 0.02 (de minimis) | 08/05/1998-01/31/2001

The Department shall determine, and the Customs Service shall assess, antidumping duties on all appropriate entries. In accordance with 19 CFR 351.212(b), we have calculated importer-specific assessment rates. We will direct the Customs Service to assess the resulting rates against the entered customs values for the subject merchandise on each importer's entries under the relevant order during the review period. In accordance with 19 CFR 351.106(c)(2), we will instruct the Customs Service to liquidate without regard to antidumping duties all entries of the subject merchandise for which the importer-specific assessment rate is zero or de minimis (i.e., less than 0.50 percent).

The following deposit requirements will be effective upon publication of this notice of final results of administrative review for all shipments of certain preserved mushrooms from Indonesia entered, or withdrawn from warehouse, for consumption on or after the date of publication, as provided by section 751(a)(1) of the Act: (1) The cash deposit rates for Dieng/Surya Jaya, Indo Evergreen and Zeta will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 11.26 percent. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 751(a)(1) and 777(i) of the Act.

Dated: July 6, 2001.
Faryar Shirzad,
Assistant Secretary for International Trade.

Appendix—List of Issues

Dieng Djaya and Surya Jaya

1. Use of Adverse Facts Available for Dieng

2. Calculation of a Single Weighted-Average Cost

3. Dieng's and Surya Jaya's Reported Can Cost

4. General Expenses and Application of Weighted-Average Financial Ratios

5. Classification of U.S. Sales Through an Affiliated Trading Company

Zeta

6. Packing Expenses

7. Reported Quantity of Waste

8. Sale of Compost and Casing Soil

9. Allocation of Costs Based on Fancy and Non-Fancy Mushrooms

10. Warranty Expenses

11. Home Market Credit Expense

Indo Evergreen

12. Home Market Credit Expenses

13. Warranty Expenses on U.S. sales

14. Allocation of Shrinkage Costs

15. Sales of Compost and Casing Soil as an Offset to Cost of Production

16. Packing Cost

17. Selling, General and Administrative Expenses

[FR Doc. 01-17626 Filed 7-12-01; 8:45 am]

BILLING CODE 3510-DS-P